DEPARTMENT OF THE INTERIOR

Bureau of Land Management

LLNM915000L14200000.BJ0000]

Notice of Filing of Plats of Survey, NM

AGENCY: Bureau of Land Management, Interior.

ACTION: Notice of filing of Plats of Survey.

SUMMARY: The plats of survey described below are scheduled to be officially filed in the New Mexico State Office, Bureau of Land Management (BLM), Santa Fe, New Mexico, thirty (30) calendar days from the date of this publication.

SUPPLEMENTARY INFORMATION:

New Mexico Principal Meridian, New Mexico (NM)

The plat representing the dependent resurvey and survey in Township 14 North, Range 10 West, of the New Mexico Principal Meridian, accepted September 4, 2009, for Group 1093 NM.

The plat, in two sheets, representing the dependent resurvey and survey, in Township 16 North, Range 19 West, of the New Mexico Principal Meridian, accepted September 30, 2009, for Group 1073 NM.

The plat representing the dependent resurvey and survey, of the Canon De San Diego Grant, accepted November 19, 2009, for Group 1100 NM.

The plat representing the dependent resurvey and survey, in Township 17 North, Range 24 East, of the New Mexico Principal Meridian, accepted December 2, 2009, for Group 1102 NM.

Indian Meridian, Oklahoma (OK)

The plat, in two sheets, representing the dependent resurvey and survey in Township 15 North, Range 11 West, of the Indian Meridian, accepted October 16, 2009, for Group 180 OK.

The plat, in four sheets, representing the dependent resurvey and survey in Township 20 North, Range 16 West, of the Indian Meridian, accepted October 14, 2009, for Group 162 OK.

The plat, in four sheets, representing the dependent resurvey and survey in Township 5 South, Range 13 West, of the Indian Meridian, accepted September 24, 2009, for Group 80 OK.

The plat, in three sheets, representing the dependent resurvey and survey, in Township 5 South, Range 15 West, of the Indian Meridian, accepted September 24, 2009, for Group 82 OK.

The plat, in two sheets, representing the dependent resurvey and survey, in Township 24 North, Range 2 East, of the Indian Meridian, accepted November 19, 2009, for Group 159 OK.

If a protest against a survey, as shown on any of the above plats is received prior to the date of official filing, the filing will be stayed pending consideration of the protest. A plat will not be officially filed until the day after all protests have been dismissed and become final or appeals from the dismissal affirmed.

A person or party who wishes to protest against any of these surveys must file a written protest with the New Mexico State Director, Bureau of Land Management, stating that they wish to protest.

A statement of reasons for a protest may be filed with the notice of protest to the State Director, or the statement of reasons must be filed with the State Director within thirty (30) days after the protest is filed.

FOR FURTHER INFORMATION CONTACT: These plats will be available for inspection in the New Mexico State Office, Bureau of Land Management, P.O. Box 27115, Santa Fe, New Mexico 87502-0115. Copies may be obtained from this office upon payment. Contact Marcella Montoya at 505-438-7537, or Marcella_Montoya@nm.blm.gov, for assistance.

Stephen W. Beyerlein,
Acting, Chief, Branch of Cadastral, Survey/GeoSciences.

[FR Doc. 2010-3828 Filed 2-24-10; 8:45 am]

BILLING CODE 4310-FB-P